DEPARTMENT OF HEALTH AND HUMAN SERVICES

Administration for Strategic Preparedness and Response

Statement of Organization, Functions, and Delegations of Authority

AGENCY: Administration for Strategic Preparedness and Response, HHS.

ACTION: Notice.

SUMMARY: This notice announces revisions to the organizations within the Administration for Strategic Preparedness and Response (ASPR).

DATES: These revisions were approved by the Administrator and Assistant Secretary of ASPR on July 2, 2024, and became effective on July 2, 2024.

SUPPLEMENTARY INFORMATION: Part A, Office of the Secretary, Statement of Organization, Functions, and Delegations of Authority of the U.S. Department of Health and Human Services (HHS) is being amended at Chapter AN, Office of the Assistant Secretary for Preparedness and Response (ASPR), as last amended at 88 FR 10125 (Feb. 16, 2023), 85 FR 8302 (Feb. 13, 2020), 83 FR 33941 (July 18, 2018), 79 FR 70.535 (Nov. 26, 2014), 78 FR 25277 (April 30, 2013), 78 FR 7784 (Feb. 4, 2013), 75 FR 35.035 (June 21, 2010) to refine the functions within ASPR to more closely align with ASPR's Operating Division status and expansion of mission which includes preparing for and responding to ever-increasing man-made and naturally occurring threats which have the potential to degrade public health, access to healthcare, access to emergency medical services, and national security.

In 2023, ASPR underwent a major reorganization that was designed to recognize the Agency's expanded scope of work as a new Operating Division, simplify the organizational structure, provide greater role clarity, and increase collaboration across teams. These changes were targeted in nature and focused on areas where the mission had recently expanded. Since the implementation of ASPR's 2023 reorganization, the Agency has undergone additional, modest adjustments to its organizational structure to better clarify missions, roles, and responsibilities at the Deputy Assistant Secretary (DAS)-level, Office-level, and Division level. Substantive changes to ASPR organizations are noted below. The changes are as follows:

Global Change: Naming Conventions for ASPR Components

To more closely align with the maturation of ASPR's Operating Division status and mission of the organization, the titles for the ASPR component overseen by an ASPR Deputy Assistant Secretary (DAS) are now called “Centers” instead of “Offices.” The chart below provides the previous title and the new title.

Previous title | New title
Immediate Office of the ASPR | Immediate Office of the ASPR (no change).
Office of Administration | Center for Administration.
Office of Preparedness | Center for Preparedness.
Office of Response | Center for Response.
Office of Biomedical Advanced Research Development Authority | Center for the Biomedical Advanced Research Development Authority.
Office of HHS Coordination, Operations, and Response Element | Center for the HHS Coordination Operations and Response Element.
Office of Industrial Base Management and Supply Chain | Center for Industrial Base Management and Supply Chain.
Office of the Strategic National Stockpile | Center for the Strategic National Stockpile.

The following organizational updates by Center are modifications from the Agency's 2023 reorganization. All other organizational structure remains as previously noticed in the 2023 Federal Register Notice.

Center for Administration

• New Office: Office of Facilities Management

• Office Name Change: Update Office of Human Capital to Office of Human Resources

Center for Preparedness

• Office Name Change: Update Office of Security and Intelligence to Office of Security, Vetting, and Protection

• Office Name Change: Update the Office of Information Management, Data, and Analytics to Office of Data, Analytics, and Information Advantage

Center for Industrial Base Management and Supply Chain

• Office Name Change: Update Office of Personal Protective Equipment and Durable Medical Equipment to Office of Critical Medical Equipment

• Office Name Change: Update Office of Advanced Manufacturing Technologies to the Office of Enabling Innovations and Technologies

Center for the HHS Coordination Operations and Response Element

In 2022, the Secretary of HHS transitioned the DOD-HHS partnership that was formerly called Operation Warp Speed into ASPR as the HHS Coordination and Operations Response Element or H-CORE. Moving H-CORE fully into ASPR provided ASPR with sole responsibility for the development, manufacture, and distribution of the nation's COVID-19 vaccines and therapeutics.

H-CORE reports to the Administrator and Assistant Secretary for Preparedness and Response (the ASPR) and works in partnership with other entities across ASPR, such as the Center for the Biomedical Advanced Research and Development Authority (BARDA), the Center for the Strategic National Stockpile (SNS), and the Center for Industrial Base Management and Supply Chain (IBMSC), to deploy vaccines, therapeutics, and other medical countermeasures products and supplies to the American public during infectious disease outbreaks and other public health emergencies. H-CORE coordinates and accelerates the logistics readiness and operations in response to infectious diseases, public health emergencies, and disasters in support of the ASPR.

H-CORE is headed by a Deputy Assistant Secretary and includes the following components:

• Office Name Change: Update from Office of Analytics to Office of Analytics, Data, and IT

• Office Name Change: Update from Office of Plans to Office of Planning and Operational Coordination

• Office of Supply, Production, and Distribution

• New Office: Office of Infectious Disease Response

• Delete Office: Office of Security and Assurance

• Delete Office: Office of Vaccine Development Coordination

• Delete Office: Office of Therapeutics Development Coordination

I. Delegations of Authority: All delegations and redelegations of authority made to officials and employees of affected organizational components will endure pending further redelegation, provided they are consistent with this reorganization.

All updates herein supersede any prior directives pertaining to the establishment of Agency components, including but not limited to directives pertaining to the establishment of H-CORE.

The Administrator and Assistant Secretary for Preparedness and Response of ASPR, Dawn O'Connell, having reviewed and approved this document, authorizes Adam DeVore, who is the Federal Register Liaison, to electronically sign this document for purposes of publication in the Federal Register.

Adam DeVore,
Federal Register Liaison, Administration for Strategic Preparedness and Response.

[FR Doc. 2024-19809 Filed 9-3-24; 8:45 am]

BILLING CODE 4150-37-P